DEPARTMENT OF ENERGY

Federal Energy Regulatory Commission

Notice of Amendment Application and Soliciting Comments, Motions To Intervene, and Protests

November 5, 2004.

Take notice that the following hydroelectric application has been filed with the Commission and is available for public inspection:

a. Type of Application: Temporary license amendment to decrease the minimum flow requirement.

b. FERC Project No.: 10855-038.

c. Date Filed: October 27, 2004.

d. Applicant: Upper Peninsula Power Company.

e. Name of Project: Dead River.

f. Location: The Dead River Project is located on the Dead River in Marquette County, Michigan.

g. Filed Pursuant to: Federal Power Act, 16 U.S.C. 791(a), 825(r) and 799 and 801.

h. Applicant Contact: Mr. Terry P. Jensky, Assistant Vice President Energy Supply-Operations, Wisconsin Public Service Corporation, 600 North Adams Street, P.O. Box 19002, Green Bay, Wisconsin 54307-9002.

i. FERC Contact: Any questions regarding this notice should be addressed to Mr. T.J. LoVullo at (202) 502-8900.

j. Description of Request: Due to the abnormally dry late summer and fall and the reduced inflow into the Hoist reservoir, Upper Peninsula Power Company (UPPCO) requests to temporarily reduce the minimum flow discharged downstream of the Hoist powerhouse from the required 100 cubic feet per second (cfs) to 60 cfs. Analysis indicates that at the current rate of discharge from the Hoist reservoir, it appears that the reservoir will be lowered to 1318 feet (mean sea level) by about mid-December. At a water elevation of 1318 feet, no additional water can be released from the Hoist reservoir and there is a danger of the penstocks freezing. There is also a danger of the minimum flows being completely shut down.

Therefore, in an effort to conserve water for the winter months and future minimum flows, UPPCO requests the following operation scenario: reduce the minimum flows at the Hoist powerhouses from 100 cfs to 60 cfs, or to the minimum flow rate required for safe operation of the turbine; if the reservoir level drops below 1325 feet, hold a meeting or teleconference with the resource agencies to discuss strategy; if the reservoir level drops below 1320 feet, shut down the turbine and release a minimum flow of approximately 6 cfs to keep the penstock from freezing; if the reservoir level begins to rise while maintaining the 60 cfs minimum flow, and rises to the elevation of 1330 feet, an additional 5 cfs will be released from the Hoist powerhouse via the bypass siphon at McClure; if the reservoir goes above 1332 feet the minimum discharge of 100 cfs will be maintained until the reservoir level goes below 1330 feet or spring runoff occurs.

k. Deadline for Filing Comments or Motions: December 6, 2004.

l. Locations of the Application: A copy of the application is available for inspection and reproduction at the Commission's Public Reference Room, located at 888 First Street, NE., Room 2A, Washington, DC 20426 or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item “h” above.

m. Filing and Service of Responsive Documents: Any filings must bear in all capital letters the title “COMMENTS”, “RECOMMENDATIONS FOR TERMS AND CONDITIONS”, “PROTEST”, or “MOTION TO INTERVENE”, as applicable, and the project number (P-10855) to which the filing refers. All documents (original and eight copies) should be filed with: The Secretary, Federal Energy Regulatory Commission, 888 First Street, NE., Washington, DC 20426. A copy of any motion to intervene must also be served upon each representative of the Applicant specified in the particular application. Comments, protests, and interventions may be filed electronically via the Internet in lieu of paper. See 18 CFR 385.2001(a)(1)(iii) and the instructions on the Commission's Web site under the “e-Filing” link. The Commission strongly encourages e-filings.

Anyone may submit responses in accordance with the requirements of Rules of Practice and Procedure, 18 CFR 385.210, .211, .214. In determining the appropriate action to take, the Commission will consider all protests or other comments filed, but only those who file a motion to intervene in accordance with the Commission's Rules may become a party to the proceeding. Any responses must be received on or before the specified comment date for the particular application.

n. Agency Comments: Federal, State, and local agencies are invited to file comments on the described applications. A copy of the applications may be obtained by agencies directly from the Applicant. If an agency does not file comments within the time specified for filing comments, that agency will be presumed to have no comments. One copy of an agency's comments must also be sent to the Applicant's representatives.

Magalie R. Salas,
Secretary.

[FR Doc. E4-3211 Filed 11-17-04; 8:45 am]

BILLING CODE 6717-01-P